DEPARTMENT OF COMMERCE

National Oceanic and Atmospheric Administration

[RTID 0648-XE608]

Marine Mammals and Endangered Species

AGENCY: National Marine Fisheries Service (NMFS), National Oceanic and Atmospheric Administration (NOAA), Commerce.

ACTION: Notice; issuance of permits, permit amendments, and permit modifications.

SUMMARY: Notice is hereby given that permits, permit amendments, and permit modifications have been issued to the following entities under the Marine Mammal Protection Act (MMPA) and the Endangered Species Act (ESA), as applicable.

ADDRESSES: The permits and related documents are available for review upon written request via email to NMFS.Pr1Comments@noaa.gov.

FOR FURTHER INFORMATION CONTACT: Erin Markin, Ph.D., (File Nos. 21467 and 28294); Carrie Hubard (File No. 28082); Courtney Smith, Ph.D. (File No. 27984), and Sara Young (File No. 22677); at (301) 427-8401.

SUPPLEMENTARY INFORMATION: Notices were published in the Federal Register on the dates listed below that requests for a permit, permit amendment, or permit modification had been submitted by the below-named applicants. To locate the Federal Register notice that announced our receipt of the application and a complete description of the activities, go to https://www.federalregister.gov and search on the file number provided in table 1 below.

Table 1—Issued Permits, Permit Amendments, and Permit Modifications
File No. | Version No. | RTID | Applicant | Previous Federal Register notice | Issuance date
21467 | 03 | 0648-XE413 | Karen Holloway-Adkins, Ph.D., East Coast Biologists, Inc., P.O. Box 33715, Indialantic, FL 32903 | 89 FR 85518, October 28, 2024 | December 17, 2024.
22677 | 01 | 0648-XR039 | NMFS Pacific Islands Fisheries Science Center, 1845 Wasp Boulevard, Building 176, Honolulu, HI 96818 (Responsible Party: Charles Littnan, Ph.D.) | 85 FR 1805, January 13, 2020 | December 12, 2024.
27984 | N/A | 0648-XE291 | Jooke Robbins, Ph.D., Center for Coastal Studies, 5 Holway Avenue, Provincetown, MA 02657 | 89 FR 86319, October 30, 2024 | December 20, 2024.
28082 | N/A | 0648-XD959 | Pioneer Studios, 2511 Ashton Village Drive, San Antonio, TX 78248 (Responsible Party: Ben Hamilton) | 89 FR 42854, May 16, 2024 | December 20, 2024.
28294 | N/A | 0648-XE457 | Matthew Fisher, Normandeau Associates Inc., 2233 Spring Street, West Lawn, PA 19609 | 89 FR 85517, October 28, 2024 | December 11, 2024.

In compliance with the National Environmental Policy Act of 1969 (42 U.S.C. 4321 et seq.), a final determination has been made that the activities proposed for File Nos. 21467, 27984, 28082, and 28294 are categorically excluded from the requirement to prepare an environmental assessment or environmental impact statement.

For File No. 22677, NMFS determined that the activities proposed are consistent with the Preferred Alternative in the Final Hawaiian Monk Seal Recovery Actions Programmatic Environmental Impact Statement (NMFS 2014), and that issuance of the permit amendment would not have a significant adverse impact on the human environment.

As required by the ESA, as applicable, issuance of these permit was based on a finding that such permits: (1) were applied for in good faith; (2) will not operate to the disadvantage of such endangered species; and (3) are consistent with the purposes and policies set forth in section 2 of the ESA.

Authority: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable.

Dated: January 9, 2025.
Julia M. Harrison,
Chief, Permits and Conservation Division, Office of Protected Resources, National Marine Fisheries Service.

[FR Doc. 2025-00717 Filed 1-14-25; 8:45 am]

BILLING CODE 3510-22-P